DEPARTMENT OF THE TREASURY

Submission for OMB Review; Comment Request

May 15, 2007.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before June 20, 2007 to be assured of consideration.

Alcohol and Tobacco Tax and Trade Bureau (TTB)

OMB Number: 1513-0085.

Type of Review: Extension.

Title: Principal Place of Business on Beer Labels. TTB REC 5130/5.

Description: TTB regulations permit domestic brewers who operate more than one brewery to show as their address on labels and kegs of beer, their “principal place of business” address. This label option may be used in lieu of showing the actual place of production on the label or of listing all of the brewer's locations on the label.

Respondents: Business and other for profits.

Estimated Total Burden Hours: 1 hour.

OMB Number: 1513-0005.

Type of Review: Revision.

Title: Letterhead applications and notices filed by brewers. TTB REC 5130/2.

Form: TTB 5130.10.

Description: The Internal Revenue Code requires brewers to file a notice of intent to operate a brewery. TTB Form 5130.10 is similar to a permit and, when approved by TTB, is a brewer's authorization to operate. Letterhead applications and notices are necessary to identify brewery activities so that TTB may ensure that proposed operations do not jeopardize Federal revenues.

Respondents: Business and other for profits.

Estimated Total Burden Hours: 8,976 hours.

OMB Number: 1513-0086.

Type of Review: Extension.

Title: Marks on Equipment and Structures (TTB REC 5130/3) and Marks and Labels on Containers of Beer (TTB REC 5130/4).

Description: Marks, signs, and calibrations are necessary on equipment and structures for identifying major equipment for accurate determination of tank contents, and segregation of tax-paid and non tax-paid beer. Marks and labels on containers or beer are necessary to inform consumers of container contents, and to identify the brewer and place of production.

Respondents: Business and other for profits.

Estimated Total Burden Hours: 1 hour.

OMB Number: 1513-0117.

Type of Review: Extension.

Title: Pay.gov User Agreement.

Form: TTB F 5000.31.

Description: The Pay.gov User Agreement will be used to identify, validate, approve and register qualified users to allow for submission of electronic forms using the Pay.gov System.

Respondents: Business and other for profits.

Estimated Total Burden Hours: 483 hours.

Clearance Officer: Frank Foote, (202) 927-9347, Alcohol and Tobacco Tax and Trade Bureau, Room 200 East, 1310 G Street, NW., Washington, DC 20005.

OMB Reviewer: Alexander T. Hunt, (202) 395-7316, Office of Management and Budget, Room 10235, New Executive Office Building, Washington, DC 20503.

Michael A. Robinson,
Treasury PRA Clearance Officer.

[FR Doc. E7-9704 Filed 5-18-07; 8:45 am]

BILLING CODE 4810-31-P